ENVIRONMENTAL PROTECTION AGENCY

[EPA-HQ-OAR-2002-0058; FRL-8503-4]

Agency Information Collection Activities: Proposed Collection; Comment Request; Information Request for National Emission Standards for Industrial, Commercial, and Institutional Boilers and Process Heaters; EPA ICR No. 2286.01

AGENCY: Environmental Protection Agency (EPA).

ACTION: Notice.

SUMMARY: In compliance with the Paperwork Reduction Act (PRA) (44 U.S.C. 3501 et seq.), this action announces that EPA is planning to submit a request for a new Information Collection Request (ICR) to the Office of Management and Budget (OMB). Before submitting the ICR to OMB for review and approval, EPA is soliciting comments on specific aspects of the proposed information collection as described below.

DATES: Comments must be submitted on or before February 5, 2008.

ADDRESSES: Submit your comments, identified by Docket ID No. EPA-HQ-OAR-2002-0058, by one of the following methods:

• http://www.regulations.gov: Follow the on-line instructions for submitting comments.

• E-mail: a-and-r-docket@epa.gov.

• Fax: (202) 566-1741.

• Mail: Air and Radiation Docket and Information Center, Environmental Protection Agency, Mailcode: 6102T, 1200 Pennsylvania Ave., NW., Washington, DC 20460.

• Hand Delivery: Air and Radiation Docket and Information Center, U.S. EPA, Room 3334, EPA West Building, 1301 Constitution Avenue, NW., Washington, DC. Such deliveries are only accepted during the Docket's normal hours of operation, and special arrangements should be made for deliveries of boxed information.

Instructions: Direct your comments to Docket ID No. EPA-HQ-OAR-2002-0058. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Jim Eddinger, Energy Strategies Group, Sector Policies and Program Division, (D243-01), Environmental Protection Agency, Research Triangle Park, North Carolina 27711; telephone number: (919) 541-5426; fax number: (919) 541-5450; e-mail address: eddinger.jim@epa.gov.

SUPPLEMENTARY INFORMATION:

How Can I Access the Docket and/or Submit Comments?

EPA has established a public docket for this ICR under Docket ID No. EPA-HQ-OAR-2002-0058, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply To?

Affected entities: Entities potentially affected by this action are major sources of hazardous air pollutants (HAP) in the industrial, commercial, and institutional boilers and process heaters source categories. A major source is one that has the potential to emit more than 10 tons per year (tpy) of any HAP, 25 tpy for the total of all HAP, or amounts exceeding any lesser quantity cutoff established pursuant to section 112(a)(1) of the Clean Air Act (CAA).

Title: Information Collection Effort for Facilities with Boilers and/or Process Heaters at Major Sources of HAP Emission.

ICR numbers: EPA ICR No. 2286.01.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The proposed ICR has two components to the information collection. To obtain the information necessary to identify and categorize all boilers and process heaters potentially affected by the revised standard, the first component of this ICR will solicit information from all potentially affected units in the format of an electronic survey under authority of section 114 of the CAA. The survey will be submitted to all facilities that either submitted an initial notification, or if initial notification data is not available, all facilities with Title V permits denoted as a major source of HAP, that have a boiler or process heater listed in their permit.

The second component will consist of requiring, if deemed necessary, again through the issuance of a letter pursuant to the authority of section 114 of the CAA, the owners/operators of up to a total of 350 boilers or process heaters selected at random to conduct in accordance with an EPA-approved protocol stack testing.

The EPA estimates the cost of the electronic survey component of the information collection will be 95,832 hours and $7,685,102. The total annual reporting and recordkeeping burden for the stack testing component of the data gathering effort is estimated to be no more than 29,584 hours and $11,712,769.

Industrial, commercial, and institutional boilers and process heaters were listed as a major source category of HAP on July 16, 1992 (57 FR 31576). Section 112(c)(2) of the CAA requires that we establish National Emission Standards for Hazardous Air Pollutants (NESHAP) for control of HAP from both existing and new major sources, based upon the criteria set out in the CAA section 112(d). The CAA requires the NESHAP to reflect the maximum degree of reduction in emissions of HAP that is achievable, taking into consideration the cost of achieving the emission reduction, any non-air quality health and environmental impacts, and energy requirements. This level of control is commonly referred to as the maximum achievable control technology (MACT). The minimum control level allowed for NESHAP (the minimum level of stringency for MACT) is the “MACT floor,” as defined under section 112(d)(3) of the CAA. The MACT floor for existing sources is the emission limitation achieved by the average of the best-performing 12 percent of existing sources for categories and subcategories. For new sources, the MACT floor cannot be less stringent than the emission control achieved in practice by the best-controlled similar source.

The NESHAP for boilers and process heaters were promulgated at 40 CFR part 63, subpart DDDDD, on September 2004 (see 69 FR 55218), and vacated by the Courts on June 8, 2007. The vacature requires the Agency to revise the standards and the associated MACT floors based on new estimates of potentially affected units.

The previous rulemaking was based upon data gathered for the Industrial Combustion Coordinated Rulemaking, complimented by additional survey data received from non-fossil boiler and process heaters. These data sources are over 10 years old. When the Agency recently compared these data to facilities submitting initial notifications to comply with the vacated standard, a large disparity was identified in the number of potentially affected units at major sources of HAP. Since the last boiler and process heater data gathering effort, many sources have shut down, others have selected to operate with a limit on their HAP emissions in order to avoid being subject to the Boiler and Process Heater NESHAP, and some units have switched out older solid fuel units for newer equipment due to increased insurance and maintenance costs. Therefore, the Agency has concluded that obtaining updated information will be crucial to informing its decision on the revised NESHAP for boilers and process heaters.

The information in both components of this ICR will be collected under authority of section 114 of the CAA. Section 114(a) states, in pertinent part:

For the purpose * * * (iii) carrying out any provision of this Chapter * * * (1) the Administrator may require any person who owns or operates any emission source * * * to- * * * (D) sample such emissions (in accordance with such procedures or methods, at such locations, at such intervals, during such periods and in such manner as the Administrator shall prescribe); (E) keep records on control equipment parameters, production variables or other indirect data when direct monitoring of emissions is impractical * * * (G) provide such other information as the Administrator may reasonably require * * *

The data collected will be used to revise the population of potentially affected boilers and process heaters, and update existing emission test data and fuel analysis information. These data will be used by the Agency to develop the revised NESHAP for boilers and process heaters (and potentially incinerators) under sections 112 and 129 of the CAA. Specifically, the data will respond in part to the two research needs, providing the Agency with updated information on the number of potentially affected units, available emission test data and fuel analysis data to address variability. For a subset of units that may become subject to CAA section 129, and thus be required to conduct stack tests, the data will be used to complete emission data gaps. All data collected will be added to existing emission test databases for boilers, process heaters, and when appropriate, incinerators; it will also be used to further evaluate the HAP emissions from these sources.

This collection of information is mandatory under section 114 of the CAA (42 U.S.C 7414). All information submitted to EPA pursuant to this ICR for which a claim of confidentiality is made is safeguarded according to Agency policies in 40 CFR part 2, subpart B. An agency may not conduct or sponsor, and a person is not required to respond to, a collection of information unless it displays a currently valid OMB control number. OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The projected cost and hour burden for this one-time collection of information is $19,398,000 and 125,400 hours. This burden is based on an estimated 3,396 likely respondents to the electronic survey component and an estimated 350 respondents to the stack testing component. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here.

Estimated total number of potential respondents: 3,396.

Frequency of response: One time.

Estimated total average number of responses for each respondent: 1.1 (electronic survey component and stack testing component combined)

Estimated total annual burden hours: 125,400.

Estimated total annual costs: $19,398,000. This includes an estimated burden cost of $7,685,100 for the electronic survey component and an estimated cost of $11,712,800 for the stack testing component.

What is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: November 30, 2007.
Frederick Thompson,
Acting Director, Sector Policies and Programs Division.

[FR Doc. E7-23845 Filed 12-6-07; 8:45 am]

BILLING CODE 6560-50-P